DEPARTMENT OF THE INTERIOR

National Park Service

[NPS-WASO-NRNHL-20572; PPWOCRADI0, PCU00RP14.R50000]

National Register of Historic Places; Notification of Pending Nominations and Related Actions

AGENCY: National Park Service, Interior.

ACTION: Notice.

SUMMARY: The National Park Service is soliciting comments on the significance of properties nominated before March 5, 2016, for listing or related actions in the National Register of Historic Places.

DATES: Comments should be submitted by May 2, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before March 5, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Los Angeles County

Carling, Foster, House (Residential Architecture of John Lautner in Southern California, 1940-1994), 7144 West Hockey Trail, Los Angeles, 16000168

Harpel, Willis, House (Residential Architecture of John Lautner in Southern California, 1940-1994), 7764 West Torreyson Dr., Los Angeles, 16000170

Harvey, Leo M., House (Residential Architecture of John Lautner in Southern California, 1940-1994), 2180 West Live Oak Dr., Los Angeles, 16000171

Lautner, John and Mary, House (Residential Architecture of John Lautner in Southern California, 1940-1994), 2007 Micheltorena St., Los Angeles, 16000172

Schaffer, J.W. House (Residential Architecture of John Lautner in Southern California, 1940-1994), 527 Whiting Woods Rd., Glendale, 16000174

Walstrom, Douglas and Octavia, House (Residential Architecture of John Lautner in Southern California, 1940-1994), 10500 Selkirk Ln., Los Angeles, 16000175

Riverside County

Elrod, Arthur, House (Residential Architecture of John Lautner in Southern California, 1940-1994), 2175 Southridge Dr., Palm Springs, 16000169

Pearlman Mountain Cabin (Residential Architecture of John Lautner in Southern California, 1940-1994), 52820 Middleridge Dr., Idyllwild, 16000173

Sutter County

West Butte Schoolhouse, 14226 Pass Rd., Live Oak, 16000167

IDAHO

Ada County

Whitehead, William, House, 3921 W. Catalpa Dr., Boise, 16000176

MICHIGAN

Clare County

Clare Downtown Historic District, 114-120 E. Fifth St., 102-202 W. Fifth St., 112-115 E. Fourth St., 112-124 W. Fourth St., 307, 321-622 N. McEwan, Clare, 16000178

Iron County

Bewabic Park, 1933 West US 2, Crystal Falls Township, 16000179

Wayne County

Pontchartrain Club-Town House Apartments, 1511 First St., Detroit, 16000181

Professional Plaza Tower, 3800 Woodward Ave., Detroit, 16000182

WJBK-TV Studios Building, 7441 Second Ave., Detroit, 16000180

MISSOURI

Jackson County

Union Cemetery, 227 East 28th Terrace, Kansas City, 16000183

St. Louis Independent city Gratiot School, 1615 Hampton Ave., St. Louis (Independent City), 16000184

MONTANA

Cascade County

East Side Neighborhood Historic District, Central Ave. and 1st Ave. between 15th and 16th Sts., Great Falls, 16000185

NEW JERSEY

Morris County

Morris Canal Historic District (Boundary Increase), 125 Ledgewood—Landing Rd., Roxbury Township, 16000177

NORTH CAROLINA

Forsyth County

Hoehns (Hanes), Philip and Johanna, House, 3550 Middlebrook Dr., Clemmons, 16000186

Wake County

Chavis, John, Memorial Park, 505 Martin Luther King Blvd., Raleigh, 16000188

PUERTO RICO

San Juan Municipality

Templo del Maestro, Avenida de la Constitucion, Parada 8, San Juan, 16000189

SOUTH CAROLINA

Charleston County

Fort Sumter National Monument (Boundary Increase and Additional Documentation), 1214 Middle St. (FOSU), Sullivan's Island, 16000190

Authority: 60.13 of 36 CFR part 60

Dated: March 10, 2016.
J. Paul Loether,
Chief, National Register of Historic Places/National Historic Landmarks Program.

[FR Doc. 2016-08696 Filed 4-14-16; 8:45 am]

BILLING CODE 4312-51-P